FEDERAL ELECTION COMMISSION

Meeting; Sunshine Act

Date & Time: Thursday, December 18, 2003 at 10 a.m.

Place: 999 E Street, NW., Washington, DC (Ninth Floor).

Status: This meeting will be open to the public.

The following item has been added to the agenda: Enforcement Treasurer Policy—Official and Personal Capacities.

FOR FURTHER INFORMATION CONTACT: Ron Harris, Press Officer, Telephone (202) 694-1220.

Mary W. Dove,
Secretary of the Commission.

[FR Doc. 03-31156 Filed 12-12-03; 3:09 pm]

BILLING CODE 6715-01-M